DEPARTMENT OF COMMERCE

International Trade Administration

[C-580-837]

Certain Cut-to-Length Carbon-Quality Steel Plate From the Republic of Korea: Final Results of Countervailing Duty Administrative Review and Rescission of Countervailing Duty Administrative Review, in Part

AGENCY: Enforcement and Compliance, International Trade Administration, Department of Commerce.

SUMMARY: The Department of Commerce (Commerce) determines that Hyundai Steel Co. (Hyundai Steel), a producer/exporter of certain cut-to-length carbon-quality steel plate (CTL plate) from the Republic of Korea (Korea), received countervailable subsidies during the period of review (POR), January 1, 2016, through December 31, 2016, and that Dongkuk Steel Mill Co., Ltd. (DSM), a producer/exporter of CTL plate did not. We are also rescinding the review for 12 companies.

DATES: Applicable July 16, 2018.

FOR FURTHER INFORMATION CONTACT: John Conniff at 202-482-1009 (for Hyundai Steel), or Jolanta Lawska at 202-482-8362 (for DSM), AD/CVD Operations, Office III, Enforcement and Compliance, International Trade Administration, U.S. Department of Commerce, 1401 Constitution Avenue NW, Washington, DC 20230.

SUPPLEMENTARY INFORMATION:

Background

Commerce published the preliminary results of this administrative review of CTL plate from Korea on March 12, 2018.¹ We invited interested parties to comment on the Preliminary Results. On April 11, 2018, we received a timely filed case brief from Nucor Corporation (the petitioner), and on April 16, 2018, Hyundai Steel submitted a timely filed rebuttal brief. Based on an analysis of the comments received, we made no changes to the subsidy rates determined for the respondents in the Preliminary Results.² The final subsidy rates are listed in the “Final Results of Administrative Review” section, below.

¹ See Certain Cut-to-Length Carbon-Quality Steel Plate from the Republic of Korea: Preliminary Results of Countervailing Duty Administrative Review; and Rescission of Review, in Part; Calendar Year 2016; 83 FR 10661 (March 12, 2018) (Preliminary Results), and accompanying Preliminary Decision Memorandum.

² See Preliminary Results, 83 FR at 10662.

Scope of the Order

The products covered by the order are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils).

The merchandise subject to the order is currently classifiable in the Harmonized Tariff Schedule of the United States (HTSUS) under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise covered by the order is dispositive.

Analysis of Comments Received

All issues raised in interested parties' case briefs are addressed in the Issues and Decision Memorandum.³ The issues are identified in the Appendix to this notice. The Issues and Decision Memorandum is a public document and is on file electronically via Enforcement and Compliance's Antidumping and Countervailing Duty Centralized Electronic Service System (ACCESS). ACCESS is available to registered users at https://access.trade.gov and is available to all parties in the Central Records Unit, room B8024 of the main Commerce building. In addition, a complete version of the Issues and Decision Memorandum can be accessed directly on the internet at http://enforcement.trade.gov/frn/index.html. The signed and electronic versions of the Issues and Decision Memorandum are identical in content.

³ See Memorandum for the Record from James Maeder, Senior Director performing the duties of Deputy Assistant Secretary for Antidumping and Countervailing Duty Operations to Gary Taverman, Deputy Assistant Secretary for Antidumping and Countervailing Duty Operations performing the non-exclusive functions and duties of the Assistant Secretary for Enforcement and Compliance: “Issues and Decision Memorandum for the Final Results of Countervailing Duty Administrative Review and Partial Rescission: Cut-to-Length Carbon-Quality Steel Plate from the Republic of Korea,” dated concurrently with this determination and hereby adopted by this notice (Issues and Decision Memorandum).

Changes Since the Preliminary Results

Based on the comments received from the petitioner and Hyundai Steel, we made no changes to the net subsidy rates calculated for the mandatory respondents. For a discussion of these issues, see the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁴ For a description of the methodology underlying all of Commerce's conclusions, see the Issues and Decision Memorandum.

⁴ See sections 771(5)(B) and (D) of the Act regarding financial contribution; section 771(5)(E) of the Act regarding benefit; and section 771(5A) of the Act regarding specificity.

Rescission of the 2016 Administrative Review, in Part

Commerce initiated a review of 14 companies in this administrative review.⁵ The petitioner timely withdrew its request for an administrative review of Bookuk Steel, Daewoo International Corp., Hyundai Glovis Co., Ltd., Hyundai Mipo Dockyard Co., Ltd., Hyuosung Corporation, Samsung C&T Corporation, Samsung C&T Engineering & Construction Group, Samsung C&T Trading Investment Group, Samsung Heavy Industries, SK Networks, Steel N People Co Ltd., and Sung Jin Steel Co., Ltd.⁶ Therefore, in accordance with 19 CFR 351.213(d)(l), we are rescinding this administrative review with respect to these companies.

⁵ See Initiation of Antidumping and Countervailing Duty Administrative Reviews, 82 FR 17188, April 10, 2017.

⁶ See Letter from Petitioner, Certain Cut-To-Length Carbon-Quality Steel Plate from South Korea: Withdrawal of Request for Administrative Review in Part,” dated July 10, 2017.

Final Results of Administrative Review

In accordance with section 777A(e)(1) of the Act and 19 CFR 351.221(b)(5), we determine the total estimated net countervailable subsidy rates for the period January 1, 2016, through December 31, 2016 to be:

Company | Subsidy rate ad valorem (percent)
Dongkuk Steel Mill Co., Ltd | * 0.21
Hyundai Steel Co | 0.54
* De minimis.

Assessment and Cash Deposit Requirements

In accordance with 19 CFR 351.212(b)(2), Commerce intends to issue appropriate instructions to U.S. Customs and Border Protection (CBP) 15 days after publication of the final results of this review. For Hyundai Steel, Commerce will instruct CBP to liquidate shipments of subject merchandise produced and/or exported by the company, entered or withdrawn from warehouse, for consumption from January 1, 2016, through December 31, 2016, at the percent rate of the entered value. Because we have calculated a de minimis countervailable subsidy rate for DSM in the final results of this review, we will instruct CBP to liquidate the appropriate entries without regard to countervailing duties in accordance with 19 CFR 351.212.

Commerce intends also to instruct CBP to collect cash deposits of estimated countervailing duties, in the amounts shown above, with the exception of DSM, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

These final results are issued and published in accordance with sections 751(a)(1) and 777(i)(1) of the Act.

Dated: July 10, 2018.
Gary Taverman,
Deputy Assistant Secretary for Antidumping and Countervailing Duty Operations, performing the non-exclusive functions and duties of the Assistant Secretary for Enforcement and Compliance.

Appendix—List of Topics Discussed in the Issues and Decision Memorandum

I. Summary

II. Scope of the Order

III. Period of Review

IV. Subsidies Valuation Information

V. Analysis of Programs

VI. Analysis of Comments

Comment 1: Whether Hyundai Steel and Hyundai Green Power Are Cross-Owned Affiliates

Comment 2: Whether the Government of Korea Purchased Electricity From Hyundai Green Power for More Than Adequate Remuneration During the POR

VII. Recommendation

[FR Doc. 2018-15137 Filed 7-13-18; 8:45 am]

BILLING CODE 3510-DS-P